NUCLEAR REGULATORY COMMISSION

Sunshine Act Meeting

DATE: Weeks of December 11, 18, 25, 2000, January 1, 8, and 15, 2001.

PLACE: Commissioner's Conference Room, 11555 Rockville Pike, Rockville, Maryland.

STATUS: Public and Closed.

MATTERS TO BE CONSIDERED:

Week of December 11

There are no meetings scheduled for the Week of December 11.

Week of December 18—Tentative

Tuesday, December 19, 2000

9:30 a.m. Discussion of Management Issues (Closed—Ex. 2 and 6)

Wednesday, December 20, 2000

9:25 a.m. Affirmation Session (Public Meeting) (If needed)

9:30 a.m. Briefing on the Status of the Fuel Cycle Facility Oversight Program Revision (Public Meeting) (Contact: Walt Schwink, 301-415-7253)

This meeting will be webcast live at the Web address— www.nrc.gov/live.html

Week of December 25—Tentative

There are no meetings scheduled for the Week of December 25.

Week of January 1, 2001—Tentative

There are no meetings scheduled for the Week of January 1, 2001.

Week of January 8, 2001—Tentative

Tuesday, January 9, 2001

9:30 a.m. Briefing on EEO Program (Public Meeting) (Contact: Irene Little, 301-415-7380)

Wednesday, January 10, 2001

9:25 a.m. Affirmation Session (Public Meeting) (If needed)

9:30 a.m. Briefing on Status of Nuclear Materials Safety (Public Meeting) (Contact: Claudia Seelig, 301-415-7243)

This meeting will be webcast live at the Web address— www.nrc.gov/live.html

Week of January 15, 2001—Tentative

Wednesday, January 17, 2001

9:25 a.m. Affirmation Session (Public Meeting) (If needed)

9:30 a.m. Briefing on Status of Nuclear Reactor Safety (Public Meeting) (Contact: Mike Case, 301-415-1134)

This meeting will be webcast live at the Web address— www.nrc.gov/live.html

The Schedule for Commission meetings is subject to change on short notice. To verify the status of meetings call (recording)—(301) 415-1292. Contact person for more information: Bill Hill (301) 415-1661.

* * * * *

Additional Information: By a vote of 5-0 on December 4, the Commission determined pursuant to U.S.C. 552b(e) and § 9.107(a) of the Commission's rules that “Affirmation of Final Rule Amending the Fitness-for-Duty Rule” be held on December 4, and on less than one week's notice to the public.

* * * * *

The NRC Commission Meeting Schedule can be found on the Internet at: http://www.nrc.gov/SECY/smj/schedule.htm

* * * * *

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: December 7, 2000.
William M. Hill, Jr.,
SECY Tracking Officer, Office of the Secretary.

[FR Doc. 00-31714 Filed 12-08-00; 2:12 pm]

BILLING CODE 7590-01-M